DEPARTMENT OF ENERGY

Federal Energy Regulatory Commission

[Docket No. RD13-12-000]

Commission Information Collection Activities (FERC-725T); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting the information collection FERC-725T, Mandatory Reliability Standards for the Texas Reliability Entity Region, to the Office of Management and Budget (OMB) for review of the information collection requirements. Any interested person may file comments directly with OMB and should address a copy of those comments to the Commission as explained below. The Commission solicited comments in an order published in the Federal Register (79 FR 7657, 2/10/2014) requesting public comments. FERC received no comments on the FERC-725T and is making this notation in its submission to OMB.

DATES: Comments on the collection of information are due by May 27, 2014.

ADDRESSES: Comments filed with OMB, identified by collection FERC-725T, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. RD13-12-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-725T, Mandatory Reliability Standards for the Texas Reliability Entity Region.

OMB Control No.: To be determined.

Type of Request: Three-year approval of the FERC-725T information collection requirements.

Abstract: This information collection relates to FERC-approved Reliability Standard, BAL-001-TRE-01—Primary Frequency Response in the Electric Reliability Council of Texas (ERCOT) region. This Texas Reliability Entity (TRE) regional Reliability Standard requires prompt and sufficient frequency response from resources to stabilize frequency during changes in the system generation-demand balance.¹ Regional Reliability Standard BAL-001-TRE-01 is more comprehensive than the existing continent-wide Reliability Standard addressing frequency response, BAL-003-0.1b, in that the regional standard includes additional requirements and applies to generator owners and generator operators as well as balancing authorities.² The expanded applicability of the regional Reliability Standard, thus, increases the reporting burden for entities that operate within the ERCOT Interconnection.

¹ Joint petition of the North American Electric Reliability Corporation (NERC) and Texas Reliability Entity, Inc. at 10.

² On January 16, 2014, the Commission issued a Final Rule approving Reliability Standard BAL-003-1 and NERC's request for the retirement of BAL-003-0.1b immediately prior to the effective date of BAL-003-1.

Type of Respondents: Generator owners, generator operators, and balancing authorities within the TRE region.³

³ These entity types represent functional categories contained in NERC's compliance registry. See http://www.nerc.com/page.php?cid=3 /25 for more information.

Estimate of Annual Burden: ⁴ Our estimate below regarding the number of respondents is based on the NERC compliance registry as of October 2013. According to the registry, the ERCOT region includes 40 generator owners, 14 generator operators, 75 generator owners that are also generator operators, and one balancing authority. Thus, we estimate that a total of 130 entities are potentially subject to the reporting requirements of BAL-001-TRE-01.

⁴ Burden is defined as the total time, effort, or financial resources expended by persons to generate, maintain, retain, or disclose or provide information to or for a Federal agency. For further explanation of what is included in the information collection burden, reference 5 Code of Federal Regulations 1320.3.

⁵ BA = Balancing Authority, GO = Generator Owner, GOP = Generator Operator.

⁶ The estimates for cost per hour (rounded to the nearest dollar) are derived as follows:

• $60/hour, the average salary plus benefits per engineer (from Bureau of Labor Statistics at http://bls.gov/oes/current/naics3_221000.htm)

• $82/hour, the salary plus benefits per manager (from Bureau of Labor Statistics at http://bls.gov/oes/current/naics3_221000.htm)

• $32/hour, the salary plus benefits per information and record clerks (from Bureau of Labor Statistics at http://bls.gov/oes/current/naics3_221000.htm)

⁷ In the initial letter order issued on January 16, 2014 we indicated total annual burden hours as 920 instead of 912. This error led to discrepancies in the cost column and total row that have been resolved in this notice and in the supporting statement submitted to OMB.

The information collection requirements entail the setting or configuration of the Control System software, identification and recording of events, data retention and submitting a report as outlined in the table below.

FERC-725T | Number of respondents ⁵ (1) | Number of responses per respondent (2) | Average burden hours per response (3) | Total annual burden hours (1) x (2) x (3) | Total annual cost ⁶
Maintain and submit Event Log Data | 1 BA | 1 | 16 | 16 | $960 ($60/hr.)
Modification to Governor Controller Setting/Configuration ⁷ | 114 GO | 1 | 8 | 912 | $74,784 One-time ($82/hr.)
Evidence Retention | 130 BA/GO/GOP | 1 | 2 | 260 | $8,320 ($32/hr.)
Total |  |  |  | 1,188 | $84,064

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 18, 2014.
Kimberly D. Bose,
Secretary.

[FR Doc. 2014-09341 Filed 4-23-14; 8:45 am]

BILLING CODE 6717-01-P